FEDERAL RESERVE SYSTEM

Formations of, Acquisitions by, and Mergers of Bank Holding Companies; Correction

This notice corrects a notice (FR Doc. 00-13255) published on page 34182 of the issue for Friday, May 26, 2000.

Under the Federal Reserve Bank of St. Louis heading, the entry for Heritage Group, Inc., Aurora, Nebraska, is revised to read as follows:

A. Federal Reserve Bank of Kansas City (D. Michael Manies, Assistant Vice President) 925 Grand Avenue, Kansas City, Missouri 64198-0001:

1. Heritage Group, Inc., Aurora, Nebraska; to acquire 100 percent of the voting shares of City National Bank and Trust Company, Hastings, Nebraska.

Comments on this application must be received by June 19, 2000.

Board of Governors of the Federal Reserve System, May 26, 2000.
Robert deV. Frierson,
Associate Secretary of the Board.

[FR Doc. 00-13710 Filed 5-31-00; 8:45 am]

BILLING CODE 6210-01-P